DEPARTMENT OF THE INTERIOR

National Park Service

Notice of Intent to Repatriate a Cultural Item: Rochester Museum & Science Center, Rochester, NY

AGENCY: National Park Service, Interior.

ACTION: Notice.

Notice is here given in accordance with the Native American Graves Protection and Repatriation Act (NAGPRA), 25 U.S.C. 3005, of the intent to repatriate one cultural item in the possession of the Rochester Museum & Science Center, Rochester, NY, that meets the definitions of “sacred object” and object of “cultural patrimony” under 25 U.S.C. 3001.

This notice is published as part of the National Park Service's administrative responsibilities under NAGPRA, 25 U.S.C. 3003(d)(3). The determinations in this notice are the sole responsibility of the museum, institution, or Federal agency that has control of the cultural item. The National Park Service is not responsible for the determinations in this notice.

In 1961, the museum acquired a large wooden medicine face (AE 9499/61.334.1) from the Rochester Museum Association that previously had purchased it from M.L. Philpott, Rochester, NY. According to the seller, it had belonged to his father-in-law, a worker on several estates in the Adirondacks, who received it from a Dr. Salisbury in approximately 1913.

Original museum documentation stated that this medicine face could only be generally affiliated with the “Iroquois” (New York State or Canada). Oral evidence presented during consultation with representatives of the Haudenosaunee Standing Committee on Burial Rules and Regulations, as well as historical and anthropological scholarly materials, support the fact that the Onondaga Nation is the Keeper of the Central Fire of the Haudenosaunee Confederacy, and as such has the responsibility within the Haudenosaunee Confederacy to bring back national cultural patrimony and sacred objects that are affiliated with the “Iroquois” generally, and to return those objects to their rightful communities. Therefore, it is the understanding of all the Haudenosaunee Confederacy Nations that any medicine faces affiliated generally as “Iroquois” are affiliated with the Onondaga Nation.

In the course of consultations with members of the Onondaga Nation, it was shown that any individual who carved a medicine face and alienated it to a third party that in turn donated it to the Rochester Museum & Science Center did not have the authority to do so. Furthermore, Onondaga Nation traditional religious leaders have identified this medicine face as being needed for the practice of traditional Native American religions by present-day adherents. Based on consultation with NAGPRA representatives from the Onondaga Nation and other Haudenosaunee and non-Haudenosaunee consultants, the museum has determined that the medicine face is both a sacred object and object of cultural patrimony. Accordingly, museum documentation, consultation and oral evidence show that this medicine face is a sacred object and an object of cultural patrimony, and that the medicine face can be culturally affiliated to the Onondaga Nation of New York on behalf of the Haudenosaunee Confederacy (also known as the Iroquois Confederacy or Six Nations, which includes the Mohawk, Oneida, Onondaga, Cayuga, Seneca, and Tuscarora Nations that are in part represented by the following Federally-recognized tribes: Cayuga Nation of New York; Oneida Nation of New York; Oneida Tribe of Indians of Wisconsin; Onondaga Nation of New York; Seneca Nation of New York; Seneca-Cayuga Tribe of Oklahoma; Saint Regis Mohawk Tribe, New York; Tonawanda Band of Seneca Indians of New York; and Tuscarora Nation of New York).

Officials of the Rochester Museum & Science Center have determined, that pursuant to 25 U.S.C. 3001(3)(C), the one cultural item described above is a specific ceremonial object needed by traditional Native American religious leaders for the practice of traditional Native American religions by their present-day adherents. Officials of the Rochester Museum & Science Center have also determined that, pursuant to 25 U.S.C. 3001(3)(D), the one cultural item described above has an ongoing historical, traditional, or cultural importance central to the Native American group or culture itself, rather than property owned by an individual. Lastly, officials of the Rochester Museum & Science Center have determined that, pursuant to 25 U.S.C. 3001(2), there is a relationship of shared group identity that can be reasonably traced between the sacred object/object of cultural patrimony and the Onondaga Nation of New York.

Representatives of any other Indian Nation or tribe that believes itself to be culturally affiliated with the sacred object/object of cultural patrimony should contact Adele DeRosa, Rochester Museum & Science Center, Rochester, NY 14607, telephone (585) 271-4552, ext 302, before June 3, 2010. Repatriation of the sacred object/object of cultural patrimony to the Onondaga Nation of New York may proceed after that date if no additional claimants come forward.

The Rochester Museum & Science Center is responsible for notifying the Onondaga Nation of New York that this notice has been published.

Dated: April 27, 2010.
David Tarler,
Acting Manager, National NAGPRA Program.

[FR Doc. 2010-10376 Filed 5-3-10; 8:45 am]

BILLING CODE 4312-50-S